DEPARTMENT OF THE INTERIOR

Bureau of Land Management

[LLNVB0l000.L 71220000.EX0000.LVTFF1486020 MO# 4500101184]

Notice of Availability of the Draft Environmental Impact Statement for the Proposed Deep South Expansion Project, Lander and Eureka Counties, Nevada

AGENCY: Bureau of Land Management, Interior.

ACTION: Notice.

SUMMARY: In compliance with the National Environmental Policy Act of 1969, as amended (NEPA), and the Federal Land Policy and Management Act of 1976, as amended (FLPMA), the Bureau of Land Management (BLM) Mount Lewis Field Office, Battle Mountain, Nevada, has prepared a Draft Environmental Impact Statement (DEIS) and is announcing the beginning of the public comment period to solicit public comments on the DEIS. Barrick Cortez, Inc. (BCI) is proposing to expand its existing Cortez Hills Project mining operations, which would require a modification to the Plan of Operations to increase the plan boundary by 4,279 acres: From 58,093 acres to 62,372 acres.

DATES: To ensure comments will be considered, the BLM must receive written comments on the Draft EIS within 45 days following the date the Environmental Protection Agency publishes its Notice of Availability in the Federal Register. The date(s) and location(s) of any public meetings or other public involvement activities will be announced at least 15 days in advance through public notices, media releases, local media, newspapers, mailings, and the BLM website at: goo.gl/JwgwXA.

ADDRESSES: You may submit comments related to the Project by any of the following methods:

• Website: https://aecom.wetransfer.com/downloads/ae11a0597ec409ff8ae048db96df62b020180803215410/1fd982a652f79e37f3e601b88767537120180803215411/a09201.

• Email: blm_nv_mlfo_deepsoutheis@blm.gov.

• Fax: 775-635-4034.

• Mail: BLM Mount Lewis Field Office, 50 Bastian Road, Battle Mountain, NV 89820.

Documents pertinent to this proposal may be examined at the Mount Lewis Field Office.

FOR FURTHER INFORMATION CONTACT: Kevin Hurrell, Project Manager; telephone: 775-635-4000; address: 50 Bastian Road, Battle Mountain, Nevada 89820; or email: blm_nv_mlfo_deepsoutheis@blm.gov. Contact Kevin Hurrell to have your name added to BLM's mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Barrick Cortez, Inc. (BCI) is proposing to expand its existing Cortez Hills Project mining operations, which is located southeast of Battle Mountain in Eureka and Lander Counties, Nevada. There are 54,825 acres of public lands within the Plan of Operations boundary that are administered by the BLM Mount Lewis Field Office, and 3,268 acres of private lands controlled by BCI. BCI was previously authorized to disturb 16,700 acres within their Plan of Operations boundary.

The proposed mine expansion, named the Deep South Expansion Project (Proposed Project) would require a modification to the Plan of Operations to increase the plan boundary by 4,279 acres: From 58,093 acres to 62,372 acres. The proposed modification would result in approximately 3,798 acres of new disturbance inside the new proposed plan boundary, of which 2,768 acres are public lands.

BCI currently employs about 1,250 people from the northern Nevada towns of Elko, Battle Mountain, Winnemucca, Eureka, Carlin, and surrounding areas. If the Deep South Expansion Project is approved, the company expects to extend the mine life and employment opportunities for its workforce by another 12 years.

BCI's purpose for the Deep South Expansion Project is to continue to profitably recover gold and silver from reserves and resources on federal mining claims in the Project Area utilizing, to the extent practical, existing facilities at BCI's currently permitted operations within the Project Area. The project need is to meet the prevailing market demand for gold. The prevailing market demand is adjusted on a daily basis on commodity exchanges throughout the world. This adjustment results from buyers and sellers agreeing on a specific transaction price, which reflects the current supply and demand for the commodity and other factors.

Under the Gold Acres Pit Partial Backfill Alternative, the proposed expansion of the existing Gold Acres Pit would be completed prior to development of the proposed satellite pits (Alta, Bellwether, and Pasture), with the waste rock from the satellite pits (30 million tons) placed as backfill in the Gold Acres Pit to an approximate elevation of 5,440 feet amsl (Figures 2-18 and 2-19). This would result in a 72-acre reduction in the proposed new disturbance for the Gold Acres North Waste Rock Facility. The pit bottom elevations for the expanded Gold Acres Pit and proposed satellite pits would be the same as described for the Proposed Action. No dewatering would be required for the proposed expansion of open pit operations at the Gold Acres Complex as the proposed pit bottom elevations would be above the groundwater table. Therefore, proposed dewatering and water management operations would be the same as under the Proposed Action.

Under the No Action Alternative the proposed facilities and facility modifications, as well as the proposed operations modifications, that comprise the Deep South Expansion Project would not be developed or implemented. Under this alternative, the existing mining and processing operations in the Project Area and the current off site transport of refractory ore to the Goldstrike Mill for processing and backhaul of Arturo Mine oxide ore to the Pipeline Complex for processing would continue under the terms of current permits and approvals as authorized by the BLM and State of Nevada.

The DEIS describes and analyzes the Proposed Project's direct, indirect, and cumulative impacts on all affected resources. In addition to the Proposed Project, one additional alternative was analyzed, including the Gold Acres Pit Partial Backfill alternative, and the No Action Alternative.

On March 29, 2017, a Notice of Intent was published in the Federal Register (80 FR 58501) inviting scoping comments on the Proposed Action. The BLM held a public scoping meeting in Battle Mountain on April 18, 2017, Crescent Valley on April 19, 2017 and Elko, Nevada on April 20, 2017. The BLM received six scoping comment submittals during the scoping period. Concerns raised included impacts to water resources, air quality, wildlife, and recreation.

The BLM has utilized and coordinated the NEPA scoping and comment process to help fulfill the public involvement requirements under the National Historic Preservation Act (NHPA) (54 U.S.C. 306108) as provided in 36 CFR 800.2(d)(3), and the agency continues to do so. The information about historical and cultural resources within the area potentially affected by the Proposed Project has assisted the BLM in identifying and evaluating impacts to such resources in the context of both NEPA and the NHPA.

The BLM has consulted and continues to consult with Indian tribes on a government-to-government basis in accordance with Executive Order 13175 and other policies. Tribal concerns, including impacts to Indian trust assets and potential impacts to cultural resources have been analyzed in the DEIS. Federal, State, and local agencies, along with tribes and other stakeholders that may be interested in or affected by the Proposed Project, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jon D. Sherve,
Field Manager, Mount Lewis Field Office.

[FR Doc. 2018-22979 Filed 10-19-18; 8:45 am]

BILLING CODE 4310-HC-P